COMMITTEE FOR PURCHASE FROM PEOPLE WHO ARE BLIND OR SEVERELY DISABLED

Procurement List; Proposed Additions and Deletion

AGENCY: Committee for Purchase From People Who Are Blind or Severely Disabled.

ACTION: Proposed Additions to and Deletion From Procurement List.

SUMMARY: The Committee is proposing to add services to the Procurement List that will be furnished by nonprofit agencies employing persons who are blind or have other severe disabilities and to delete a product previously furnished by such agency.

DATES: Comments Must Be Received On or Before: 6/3/2013.

ADDRESSES: Committee for Purchase From People Who Are Blind or Severely Disabled, 1401 S. Clark Street, Suite 10800, Arlington, Virginia 22202-4149.

For Further Information or To Submit Comments Contact: Patricia Briscoe, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to Procurement List for production by the nonprofit agencies listed:

Services

Service Type/Location: Custodial and Ground Maintenance Services, El Paso Service Processing Center, 8915 Montana Avenue, El Paso, TX

NPA: Mavagi Enterprises, Inc., San Antonio, TX

Contracting Activity: U.S. IMMIGRATION AND CUSTOMS ENFORCEMENT, DETENTION MANAGEMENT—DC OFFICE, Washington DC

Service Type/Location: Janitorial Service, Dubois Ranger District Office, Caribou-Targhee National Forest, 98 North Oakley, Dubois, ID

NPA: Development Workshop, Inc., Idaho Falls, ID

Contracting Activity: Forest Service, Caribou-Targhee National Forest, Idaho Falls, ID

Service Type/Locations: Military Personnel Support Services, Force Support Div., Manpower & Military Personnel Branch, Joint Base Langley-Eustis, VA, Force Support Div., Manpower & Military Personnel Branch, JEB Little Creek, Fort Story, VA

NPA: ServiceSource, Inc., Alexandria, VA

Contracting Activity: 633rd Contracting Squadron, Joint Base Langley-Eustis, VA

Deletion

The following product is proposed for deletion from the Procurement List:

Product

NSN: 2540-00-737-3309—Cushion Seat, Vehicular

NPA: EnableUtah, Ogden, UT

Contracting Activity: DLA LAND AND MARITIME, COLUMBUS, OH

Patricia Briscoe,
Deputy Director, Business Operations (Pricing and Information Management).

[FR Doc. 2013-10496 Filed 5-2-13; 8:45 am]

BILLING CODE 6353-01-P